DEPARTMENT OF THE INTERIOR

Bureau of Land Management

[LLNM922000-11-L13200000-EL0000; OKNM 126630]

Notice of Invitation To Participate; Coal Exploration License Application OKNM 126630, Oklahoma

AGENCY: Bureau of Land Management, Interior.

ACTION: Notice.

SUMMARY: Pursuant to the Mineral Leasing Act of 1920, as amended by the Federal Coal Leasing Amendments Act of 1976, and to the Bureau of Land Management (BLM) regulations, all interested parties are hereby invited to participate with Vale Exploration USA, Inc., on a pro rata cost-sharing basis, in a program for the exploration of coal deposits owned by the United States of America in lands located in LeFlore and Haskell Counties, Oklahoma.

DATES: This notice of invitation will be published in the Poteau Daily News newspaper once each week for 2 consecutive weeks beginning the week of August 22, 2011 and in the Federal Register. Any party electing to participate in this exploration program must send written notice referencing the Exploration License Application serial number OKNM 126630 to both the BLM and Vale Exploration USA, Inc., as provided in the ADDRESSES section below no later than 30 days after publication of this notice in the Federal Register or 10 calendar days after the last publication of this notice in the Poteau Daily News newspaper, whichever is later.

ADDRESSES: Copies of the proposed exploration plan (case file OKNM 126630) are available for review from 9 a.m. to 4 p.m., Monday through Friday: BLM New Mexico State Office, 301 Dinosaur Trail, Santa Fe, New Mexico; and BLM, Oklahoma Field Office, 7906 East 33rd Street Suite 101, Tulsa, Oklahoma.

The written notice should be sent to the following addresses: State Director, BLM New Mexico State Office, P. O. Box 27115, Santa Fe, New Mexico 87502-0115 and Vale Exploration USA, Inc., 1209 Orange Street, Wilmington, Delaware 19801.

FOR FURTHER INFORMATION CONTACT: Ida T. Viarreal at 505-954-2163, iviarrea@blm.gov or Powell King (505) 954-2160, pking@blm.gov. Persons who use a telecommunications device for the deaf (TDD) may call the Federal Information Relay Service (FIRS) at 1-800-877-8339 to contact the above individuals during normal business hours. The FIRS is available 24 hours a day, 7 days a week, to leave a message or question with the above individuals. You will receive a reply during normal business hours.

SUPPLEMENTARY INFORMATION: The purpose of the exploration program is to gain structural and quality information about the coal. The BLM regulations at 43 CFR part 3410 require the publication of an invitation to participate in the coal exploration in the Federal Register. The Federal coal resources included in the exploration license application are located in the following described lands in LeFlore and Haskell Counties, Oklahoma, and are described as follows:

Hartford Exploration Area, LeFlore County, Oklahoma

Indian Meridian

T. 6 N., R. 25 E.,

Sec. 24, E½, SW¼, and SE¼NW¼;

Sec. 25, All;

Sec. 36, All, less Lot 1.

T. 6 N., R. 26 E.,

Sec. 14, All;

Sec. 15, All;

Sec. 16, All;

Sec. 17, NE¼NE¼, S½NE¼, S½, and SE¼ NW¼;

Sec. 19, lots 1-4, inclusive, E½, and E½W½;

Sec. 20, All;

Sec. 21, All;

Sec. 22, All;

Sec. 23, All;

Sec. 25, All;

Sec. 28, N½N½, S½NW¼, and NW¼SW¼;

Sec. 29, All;

Sec. 30, lots 1-4, inclusive, E½, and E½W½;

Sec. 31, lots 1-4, inclusive, E½, and E½W½;

Sec. 32, All.

T. 6 N., R. 27 E.,

Sec. 7, S½;

Sec. 8, S½;

Sec. 9, S½;

Sec. 10, lots 3-4, inclusive, and W½SW¼;

Sec. 15, lots 1-4, inclusive, and W½W½;

Sec. 16, All;

Sec. 17, All;

Sec. 18, All;

Sec. 19, All;

Sec. 20, All;

Sec. 21, All;

Sec. 22, lots 1-4, inclusive, and W½W½.

Containing 16,313.44 acres, more or less.

Lafayette Exploration Area, Haskell County, Oklahoma

Indian Meridian

T. 8 N., R. 21 E.,

Sec. 22, S½SE¼;

Sec. 23, S½NE¼, and S½;

Sec. 24, SW¼, SW¼NW¼, and SW¼SE¼;

Sec. 25, All;

Sec. 26, All;

Sec. 27, E½, W½SW¼, E½W½, and SW¼NW¼;

Sec. 28, E½SE¼, and SW¼SE¼;

Sec. 33, E½W½, and E½;

Sec. 34, All;

Sec. 35, All;

Sec. 36, NE¼, N½SE¼, and W½.

T. 8 N., R. 22 E.,

Sec. 28, All;

Sec. 29, E½, S½SW¼, less lot 1;

Sec. 30, lots 2-4, inclusive, SE¼SW¼, and S½SE¼;

Sec. 31, lots 1-2, inclusive, NE¼, and E½NW¼;

Sec. 32, N½N½, and S½NW¼;

Sec. 33, N½NW¼.

Containing 6,927.92 acres, more or less.

The proposed exploration program is fully described in, and will be conducted pursuant to, an exploration plan to be approved by the BLM.

Authority: 43 CFR 3410.2-1(c)(1).

Michael Tupper,
Acting Deputy State Director, Minerals.

[FR Doc. 2011-20781 Filed 8-15-11; 8:45 am]

BILLING CODE 4310-FB-P